DEPARTMENT OF TRANSPORTATION

Office of the Secretary

Aviation Proceedings, Agreements Filed During Week Ending July 20, 2001

The following Agreements were filed with the Department of Transportation under provisions of 49 U.S.C. 412 and 414. Answers may be filed within 21 days after the filing of the applications.

Docket Number: OST-2001-10157.

Date Filed: July 16, 2001.

Parties: Members of the International Air Transport Association.

Subject: PTC2 ME 0095 dated July 6, 2001, TC2 Within Middle East Resolution r1-r14, MINUTES—PTC2 ME 0093 dated June 29, 2001, TABLES—PTC2 ME Fares 0035 dated July 10, 2001, PTC2 ME Fares 0035 (Re-Issued) dated July 13, 2001, Intended effective date: January 1, 2002.

Docket Number: OST-2001-10183.

Date Filed: July 19, 2001.

Parties: Members of the International Air Transport Association.

Subject: PTC2 EUR-ME 0112 dated July 10, 2001, TC2 Europe-Middle East Expedited Resolutions r1-r5. Intended effective date: August 15, 2001.

Docket Number: OST-2001-9669.

Date Filed: July 20, 2001.

Parties: Members of the International Air Transport Association.

Subject: Memo: PTC2 EUR 0398 dated July 19, 2001, Corrects PTC2 EUR 0374 dated May 11, 2001.

Docket Number: OST-2001-10195.

Date Filed: July 20, 2001.

Parties: Members of the International Air Transport Association.

Subject: PTC12 USA-EUR 0121 dated June 29, 2001, North Atlantic USA-Europe Resolutions r1-r23, PTC12 USA-EUR 0124 dated July 3, 2001, (Technical Correction), MINUTES—PTC12 USA-EUR 0125 dated July 17, 2001, TABLES—PTC12 USA-EUR Fares 0060 dated July 6, 2001, Intended effective date: November 1, 2001.

Andrea M. Jenkins,
Federal Register Liaison.

[FR Doc. 01-19742 Filed 8-6-01; 8:45 am]

BILLING CODE 4910-62-P